DEPARTMENT OF TRANSPORTATION

Federal Aviation Administration

Notice of Opportunity for Public Comment on Surplus Property Release at Augusta Regional Airport, Augusta, GA

AGENCY: Federal Aviation Administration (FAA), DOT.

ACTION: Notice.

SUMMARY: Under the provisions of Title 49, U.S.C. 47153(c), notice is being given that the FAA is considering a request from the Augusta Aviation Commission and the Augusta Regional Airport to waive the requirement that a 4.31-acre parcel of surplus property, located at the Augusta Regional Airport, be used for aeronautical purposes.

DATES: Comments must be received on or before May 8, 2006.

ADDRESSES: Comments on this notice may be mailed or delivered in triplicate to the FAA at the following address: Atlanta Airports District Office, Attn: Aimee A. McCormick, Program Manager, 1701 Columbia Ave., Campus Bldg., Suite 2-260, Atlanta, GA 30337-2747.

In addition, one copy of any comments submitted to the FAA must be mailed or delivered to Mr. Buster Boshears, Executive Director, Augusta Regional Airport at the following address: 1501 Aviation Way, Augusta, GA 30906.

FOR FURTHER INFORMATION CONTACT: Aimee McCormick, Program Manager, Atlanta Airports District Office, 1701 Columbia Ave., Campus Bldg., Suite 2-260, Atlanta, GA 30337-2747, (404) 305-7143. The application may be reviewed in person at this same location.

SUPPLEMENTARY INFORMATION: The FAA is reviewing a request by the Augusta Aviation Commission and the Augusta Regional Airport to release 4.31 acres of surplus property at the Augusta Regional Airport. The property will be purchased as a permanent easement to construct a force gravity sewer main and additional future utility lines. The net proceeds from the sale of this property will be used for airport purposes. The proposed use of this property is compatible with airport operations.

Any person may inspect the request in person at the FAA office listed above under FOR FURTHER INFORMATION CONTACT. In addition, any person may, upon request, inspect the request, notice and other documents germane to the request in person at the Augusta Aviation Commission and the August Regional Airport.

Issued in Atlanta, Georgia, on March 20, 2006.
Scott L. Seritt,
Manager, Atlanta Airports District Office, Southern Region.

[FR Doc. 06-3288 Filed 4-5-06; 8:45 am]

BILLING CODE 4910-13-M